DEPARTMENT OF THE INTERIOR

Bureau of Land Management

[BLM_NV_FRN_MO4500177889]

Notice of Application for Extension of Withdrawal of Public Lands for Runway Safe Zone, Nevada

AGENCY: Bureau of Land Management, Interior.

ACTION: Notice.

SUMMARY: The United States Air Force has requested that the Secretary of the Interior extend the withdrawal established by Public Land Order (PLO) No. 7613 for an additional 20-year term. PLO No. 7613 withdrew 40 acres of public lands from settlement, sale, location, or entry under the general land laws, including the United States mining laws, subject to valid existing rights, for a period of 20 years, to protect a runway safe zone at Nellis Air Force Base located in Las Vegas, Nevada. This notice advises the public of an opportunity to comment on the U.S. Air Force application for extension of the withdrawal and to request a public meeting.

DATES: Comments and recommendations for a public meeting regarding the withdrawal extension application must be received on or before June 4, 2024.

ADDRESSES: Comments and meeting requests should be sent to the Bureau of Land Management (BLM) Las Vegas Field Manager, 4701 North Torrey Pines Dr., Las Vegas, NV 89130.

FOR FURTHER INFORMATION CONTACT: Eric Benavides, Realty Specialist, BLM Las Vegas Field Office, at (702) 515-5144, email: ebenavides@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The withdrawal established by PLO No. 7613 on August 18, 2004 (69 FR 51320), and serialized as N-74668 (NVNV106080782), is incorporated herein by reference and will expire on August 17, 2024, unless extended as requested by the U.S. Air Force. The purpose of the withdrawal is to protect a runway safe zone at Nellis Air Force Base.

The 40 acres of public lands are located wholly within Nellis Air Force Base, a secured military installation, at the northern end of an active runway; public access to these lands has been restricted since the 1950's. The 40 acres withdrawn by PLO No. 7613 are in the northeast portion of Las Vegas, Nevada, east of Las Vegas Blvd., and are legally described as:

Mount Diablo Meridian, Nevada

T. 19 S., R. 62 E.,

Sec. 35, SE¼SW¼.

The area described contains 40.00 acres, according to the official plats of the surveys of the said lands, on file with the BLM.

Comments, including name and street address of respondents, will be available for public review at the BLM Las Vegas Field Office, 4701 North Torrey Pines Drive, Las Vegas, Nevada 89130, during regular business hours 8:00 a.m. to 4:00 p.m., Monday through Friday, except holidays.

Before including your address, phone number, email address, or other personally identifiable information in your comment, you should be aware that your entire comment—including your personally identifiable information—may be made publicly available at any time. While you may ask the BLM in your comment to withhold your personally identifiable information from public review, we cannot guarantee that we will be able to do so.

Notice is hereby given that an opportunity for a public meeting is afforded in connection with the application for withdrawal extension. All interested persons who desire a public meeting for the purpose of being heard on the application for withdrawal extension must submit a written request to the Field Manager, BLM Las Vegas Field Office, at the address in the ADDRESSES section, within 90 days from the date of publication of this notice. If the authorized officer determines that a public meeting will be held, a notice of the date, time, and place will be published in the Federal Register, local newspapers, and on the BLM website at www.blm.gov at least 30 days before the scheduled date of any meeting.

This withdrawal extension application will be processed in accordance with the regulations set forth in 43 CFR 2310.4.

(Authority: 43 CFR 2310.4)

Jon K. Raby,
State Director, Nevada.

[FR Doc. 2024-04714 Filed 3-5-24; 8:45 am]

BILLING CODE 4331-21-P